FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Web site (http://www.fmc.gov) or contacting the Office of Agreements (202) 523-5793 or tradeanalysis@fmc.gov).

Agreement No.: 010979-046.

Title: Caribbean Shipowners Association.

Parties: Bernuth Lines, Ltd.; CMA CGM, S.A.; Crowley Liner Services, Inc.; Seaboard Marine, Ltd.; Seafreight Line, Ltd.; Tropical Shipping and Construction Co., Ltd.; Sea Star Line Caribbean, LLC; and Zim Integrated Shipping Services, Ltd.

Filing Party: Wayne R. Rohde, Esq.; Sher and Blackwell; 1850 M Street NW., Suite 900; Washington, DC 20036.

Synopsis: The amendment deletes Interline Connection, N.V. as a party to the agreement.

Agreement No.: 011733-024.

Title: Common Ocean Carrier Platform Agreement.

Parties: A.P. Moller-Maersk A/S; CMA CGM; Hamburg-Süd; Hapag-Lloyd AG; Mediterranean Shipping Company S.A.; and United Arab Shipping Company (S.A.G.) as shareholder parties, and Alianca Navegacao e Logistica Ltda.; Compania Sud Americana de Vapores, S.A.; Companhia Libra de Navegacao; COSCO Container Lines Co., Ltd.; Emirates Shipping Lines; Hanjin Shipping Co., Ltd.; Hyundai Merchant Marine Co. Ltd; Kawasaki Kisen Kaisha, Ltd.; MISC Berhad; Mitsui O.S.K. lines Ltd.; Nippon Yusen Kaisha; Safmarine Container Lines N.V.; Senator Lines GmbH; Norasia Container Lines Limited; Tasman Orient Line C.V. and Zim Integrated Shipping as non-shareholder parties.

Filing Party: Wayne R. Rohde, Esq.; Sher & Blackwell LLP; 1850 M Street, NW.; Suite 900; Washington, DC 20036.

Synopsis: The amendment adds Zim Integrated Shipping Services, Ltd. as a non-shareholder party to the agreement.

Agreement No.: 012003-001.

Title: APL/CMA CGM/HMM/MOL China/U.S. East Coast Via Panama Vessel Sharing Agreement.

Parties: APL Co. Pte Ltd.; American President Lines, Ltd.; CMA CGM S.A.; Hyundai Merchant Marine Co., Ltd.; and Mitsui O.S.K. Lines, Ltd.

Filing Party: Brook M. Thibault, Esq.; CMA CGM (America) LLC; 5701 Lake Wright Drive; Norfolk, VA 23502.

Synopsis: The amendment revises the vessel contribution of the parties. It also restates the agreement and changes the name to the CMA CGM/TNWA China/U.S. East Coast Via Panama Vessel Sharing Agreement.

Agreement No.: 012007-001.

Title: APL/CMA CGM South East Asia and Sri Lanka/U.S. East Coast via Suez Slot Charter Agreement.

Parties: APL Co. Pte. Ltd/American President Lines, Ltd. (“APL”); and CMA CGM S.A (“CMA”).

Filing Party: Eric C. Jeffrey, Esq.; Goodwin Procter, LLP; 901 New York Avenue, NW.; Washington, DC 20001.

Synopsis: The amendment increases the number of slots that APL charters to CMA CGM and revises the duration and termination provisions.

By Order of the Federal Maritime Commission.
Dated: July 3, 2008.
Karen V. Gregory,
Assistant Secretary.

[FR Doc. E8-15567 Filed 7-8-08; 8:45 am]

BILLING CODE 6730-01-P